DEPARTMENT OF TRANSPORTATION

Pipeline and Hazardous Materials Safety Administration

International Standards on the Transport of Dangerous Goods; Public Meeting

AGENCY: Pipeline and Hazardous Materials Safety Administration (PHMSA), Department of Transportation.

ACTION: Notice of public meeting.

SUMMARY: This notice is to advise interested persons that PHMSA will conduct a public meeting in preparation for the 29th session of the United Nation's Sub-Committee of Experts on the Transport of Dangerous Goods (UNSCOE) to be held 3-12 (a.m.) July 2006 in Geneva, Switzerland.

DATES: Wednesday June 21, 2006; 9:30 a.m.-12:30 p.m. Room 3328.

ADDRESSES: The meeting will be held at DOT Headquarters, Nassif Building, 400 Seventh Street SW., Washington, DC 20590.

FOR FURTHER INFORMATION CONTACT: Mr. Duane Pfund, Acting Director, Office of International Standards, Office of Hazardous Materials Safety, Department of Transportation, Washington, DC 20590; (202) 366-0656.

SUPPLEMENTARY INFORMATION: The primary purpose of this meeting will be to prepare for the 29th session of the UNSCOE and to discuss draft U.S. positions on UNSCOE proposals. The 29th session of the UNSCOE is the third meeting in the current biennium cycle. The UNSCOE will consider proposals for the 15th Revised Edition of the United Nations Recommendations on the Transport of Dangerous Goods Model Regulations. Topics to be covered during the public meetings include:

(1) Explosive classification, (2) Transport of compressed gases, (3) Requirements for Intermediate Bulk Containers (IBC), (4) Transport of dangerous goods in limited and excepted quantities, (5) Requirements for lithium batteries and fuel cell systems, (6) Requirements for the classification and packaging of Division 6.2 Infectious Substances, (7) Harmonization with the IAEA Regulations for the safe transport of radioactive materials, (8) Options to facilitate global harmonization of transport of dangerous goods regulations, (9) Miscellaneous proposals related to listing and classification, and the use of packaging and tanks.

The public is invited to attend without prior notification. Due to the heightened security measures participants are encouraged to arrive early to allow time for security checks necessary to obtain access to the building. In lieu of conducting a public meeting after the 29th session of the UNSCOE to present the results of the session, PHMSA will place a copy of the Sub-Committee's report and an updated copy of the pre-meeting summary document on PHMSA's Hazardous Materials Safety Homepage at http://hazmat.dot.gov/regs/intl/intstandards.htm.

Documents

Copies of documents for the UNSCOE meeting and the meeting agenda may be obtained by downloading them from the United Nations Transport Division's Web site at http://www.unece.org/trans/main/dgdb/dgsubc/c32006.html. This site may also be accessed through PHMSA's Hazardous Materials Safety Homepage at http://hazmat.dot.gov/regs/intl/intstandards/htm. PHMSA's site provides additional information regarding the UNSCOE and related matters such as a summary of decisions taken at previous sessions of the UNSCOE.

Robert A. McGuire,
Associate Administrator for Hazardous Materials Safety.

[FR Doc. 06-4691 Filed 5-18-06; 8:45 am]

BILLING CODE 4910-60-M